DEPARTMENT OF THE TREASURY

Alcohol and Tobacco Tax and Trade Bureau

27 CFR Part 5

[Docket No. TTB-2018-0007; T.D. TTB-176A; Ref: T.D. TTB-176]

RIN 1513-AB54

Modernization of the Labeling and Advertising Regulations for Distilled Spirits and Malt Beverages; Correction

AGENCY: Alcohol and Tobacco Tax and Trade Bureau, Treasury.

ACTION: Final rule; Treasury decision; correction.

SUMMARY: The Alcohol and Tobacco Tax and Trade Bureau (TTB) recently published a final rule amending certain of its regulations governing the labeling and advertising of distilled spirits and malt beverages. That final rule, which also reorganized the regulations, appeared in the Federal Register of February 9, 2022. This document corrects several minor, non-substantive errors in that final rule.

DATES: This final rule is effective March 11, 2022.

FOR FURTHER INFORMATION CONTACT: Christopher M. Thiemann, Regulations and Rulings Division, Alcohol and Tobacco Tax and Trade Bureau, 1310 G Street NW, Box 12, Washington, DC 20005; telephone 202-453-2265.

SUPPLEMENTARY INFORMATION: The Alcohol and Tobacco Tax and Trade Bureau (TTB) recently published a final rule amending certain of its regulations governing the labeling and advertising of distilled spirits and malt beverages. That final rule, which also reorganized those regulations, published as T.D. TTB-176 in the Federal Register of February 9, 2022, at 87 FR 7526. The final rule contained several minor inadvertent, nonsubstantive errors in the preamble discussion of, and the regulatory text for, 27 CFR part 5, Labeling and Advertising of Distilled Spirits.

First, in the final rule's preamble, in the Derivation Table for part 5, subpart I, the entry for § 5.153 should read “[reserved]” instead of “New.” In the related notice of proposed rulemaking (see Notice No. 176, 83 FR 60562, November 26, 2018), TTB proposed a new section, which it decided not to finalize, as described in the final rule. Second, and related to that error, in the final rule's regulatory amendments, the table of contents for part 5 lists the section heading for § 5.153 as originally proposed (“Diluted spirits”) instead of listing that section as “reserved” as finalized in T.D. TTB-176. (The final rule correctly shows § 5.153 as “[Reserved]” in the regulatory text of part 5) Third, in § 5.203, which lists the authorized standards of fill for distilled spirits, two paragraphs were designated as paragraph (a)(1)(v)—one setting out a standard of fill of 750 mL and the other a standard of fill of 720 mL.

The described errors were inadvertent, and their correction does not alter the intended meaning of any regulatory section contained in the final rule.

Corrections

In the final rule document numbered FR Doc. 2022-00841 beginning on page 7526 in the Federal Register issue of Wednesday, February 9, 2022, make the following corrections:

In the SUPPLEMENTARY INFORMATION section:

1. On page 7575, at the bottom of the second column, in the Derivation Table for 27 CFR part 5, subpart I, in the table column titled “Are derived from current section:”, in the entry for § 5.153, the word “New” is corrected to read “[reserved]”.

In the Regulatory Amendments section:

2. On page 7579, in the third column, in the table of contents for 27 CFR part 5, subpart I, in the entry for § 5.153, the phrase “Diluted spirits” is corrected to read “[Reserved]”.

3. On page 7602, in the third column, in § 5.203, paragraph (a)(1) is corrected to read as follows:

§ 5.203 [Corrected]

(a) * * *

(1) Containers other than cans. For containers other than cans described in paragraph (a)(2) of this section—

(i) 1.8 Liters.

(ii) 1.75 Liters.

(iii) 1.00 Liter.

(iv) 900 mL.

(v) 750 mL.

(vi) 720 mL.

(vii) 700 mL.

(viii) 375 mL.

(ix) 200 mL.

(x) 100 mL.

(xi) 50 mL.

* * * * *

Signed: March 2, 2022.
Mary G. Ryan,
Administrator.

[FR Doc. 2022-04893 Filed 3-8-22; 8:45 am]

BILLING CODE 4810-31-P